SECURITIES AND EXCHANGE COMMISSION

[Release No. 34-68783; File No. SR-EDGA-2013-02]

Self-Regulatory Organizations; EDGA Exchange, Inc.; Notice of Filing and Immediate Effectiveness of Proposed Rule Change Relating to Amendment to EDGA Rule 13.9

January 31, 2013.

Correction

In notice document 2013-02624, appearing on pages 8657-8659 in the issue of Wednesday, February 6, 2013, make the following correction:

On page 8657, in the third column, the Release No. and File No., which were inadvertently omitted from the document heading, are added to read as set forth above.

[FR Doc. C1-2013-02624 Filed 2-19-13; 8:45 am]

BILLING CODE 1505-01-D